DEPARTMENT OF HOUSING AND URBAN DEVELOPMENT

[Docket No. FR-5562-D-01]

Delegation of Authority for the Office of the Chief Human Capital Officer

AGENCY: Office of the Secretary, HUD.

ACTION: Notice of delegation of authority.

SUMMARY: Through this notice, the Secretary delegates all authority under the Chief Human Capital Officers Act of 2002 to the Chief Human Capital Officer. The Chief Human Capital Officer reports to the Chief Operating Officer, as described in the Federal Register notice published on June 14, 2011 at 76 FR 34745.

DATES: Effective Date: October 20, 2011.

FOR FURTHER INFORMATION CONTACT: Lynette Warren, Office of the Chief Human Capital Officer, Policy Development and Advisory Services, Department of Housing and Urban Development, 451 Seventh Street SW., Room 2182, Washington, DC 20410; telephone number (202) 402-4169 (this is not a toll-free number). Persons with hearing or speech impairments may call HUD's toll-free Federal Relay Service at (800) 877-8339.

SUPPLEMENTARY INFORMATION: The Chief Human Capital Officers Act of 2002 was enacted as part of the Homeland Security Act of 2002 (Pub. L. 107-296, section 1301 et seq.; 5 U.S.C. 1401) on November 25, 2002 (CHCO Act). The CHCO Act requires the Department to establish the position of Chief Human Capital Officer (CHCO) to advise the Secretary and other agency officials in carrying out the agency's responsibilities for selecting, developing, training, and managing a high-quality, productive workforce in accordance with merit system principles; to implement the rules and regulations of the President and the Office of Personnel Management and the laws governing the civil service within the Department; and to carry out such functions as the primary duty of the Chief Human Capital Officer. As described in a notice published on June 14, 2011, at 76 FR 34745, the Deputy Secretary delegated authority to manage and supervise the operations of the Office of the CHCO to the Chief Operating Officer.

Section A. Authority Delegated

1. The CHCO is hereby delegated all authority and assigned all responsibility for human capital management within HUD, including, without limitation, the following:

(a) Managing and administering all aspects of the Department's programs including, but not limited to: Position classification, position management, pay administration, benefits and retirement counseling, employee assistance, and employee health and wellness, which may include reasonable accommodation, personnel actions processing, buyouts, furloughs, maintenance of official personnel records, personnel security, and other like or related policies and programs related to Human Resources management and administration;

(b) Handling the full range of Executive Personnel Programs and operations and providing services for employees in the Senior Executive Service, at the Executive Level, in the Senior Level system, and Schedule C appointees, experts, and consultants;

(c) Managing the Department's performance management programs, overseeing the execution of the annual performance appraisal cycle, overseeing and executing the Incentive Awards Program, providing training to managers and employees, and performing related customer advisory services and outreach support;

(d) Developing and implementing departmental policy guidance for human capital management and programs, administering leadership and employee development programs, administering general and managerial skills training for Headquarters and field employees, and conducting workforce analysis and succession planning;

(e) Directing the development of integrated systems and managing the Office of the Chief Human Capital Officer's human resource information technology inventory and strategies;

(f) Under 5 U.S.C. 7114(c), approve all federal labor management agreements, including employee negotiated agreements, renegotiations, supplements, and other related agreements;

(g) Approve personnel actions involving positions at the GS-15 level and below or equivalent in the competitive and excepted service;

(h) Approve personnel actions involving positions above the GS-15 or equivalent level not requiring Executive Resources Board approval;

(i) Approve personnel actions relating to the appointment of experts and consultants pursuant to 42 U.S.C. 3535(e);

(j) Approve developmental or training assignments external to HUD of one year or less;

(k) Administer the oath of office under 5 U.S.C. 2903 and execute appointment affidavits for all HUD appointments where such oaths and affidavits are required;

(l) Exercise the functions granted regarding giving preferences to employees who have had a prohibited personnel action taken against them under 5 U.S.C. 3352. This authority may not be redelegated further;

(m) Waive the biweekly limitation on General Schedule premium pay for emergency situations or work that is critical to the mission of HUD under 5 U.S.C. 5547(b);

(n) Approve performance-based cash awards up to $10,000 under 5 U.S.C. 4505a and 5 CFR part 451;

(o) Approve dual compensation waivers pursuant to section 1122 of the National Defense Authorization Act for Fiscal Year 2010 (5 U.S.C. 8344);

(p) Approve temporary assignments outside of the Department to other federal agencies or allowable organizations; and

(q) Approve waivers of overpayment and salary offset as designated by the Secretary or Deputy Secretary.

2. In addition to the human capital authorities described above, the Chief Human Capital Officer is hereby delegated authority to carry out the following responsibilities:

(a) Provide for the maintenance and safety of all facilities within the Department (Headquarters and field), including, but not limited to:

(i) Real and personal property management;

(ii) Fleet management;

(iii) Operations;

(iv) Energy and environmental management;

(v) Telecommunications management;

(vi) Safety and health program management;

(vii) Records and directives management;

(viii) Mail distribution and management,

(ix) Printing and graphic arts services;

(x) Physical security and investigations services;

(b) Developing and issuing departmental policy for facilities services;

(c) Managing the Salaries and Expenses budget functions and providing oversight of Office of the Chief Human Capital Officer contracts;

(d) Developing and administering the Department's Transit Subsidy program and Purchase Charge Card Program;

(e) Serving as the central control and coordination point for the management of correspondence to and from the Secretary and the Deputy Secretary, correspondence received in Headquarters from Congress and elected officials, and other correspondence, as appropriate; and

(f) Processing Freedom of Information Act requests.

3. The CHCO has full authority to waive any requirements in any policy and/or program developed, administered, and/or managed by the OCHCO.

The CHCO will perform such additional duties as may be assigned to the CHCO by applicable law or regulation.

Section B. Authority To Redelegate

The Chief Human Capital Officer may redelegate this authority.

Section C. Authority Excepted

The authority delegated in this document does not include the authority to sue or be sued or to issue or waive regulations.

Section D. Authority Superseded

This Redelegation supersedes any previous delegation of authority to the Assistant Secretary for Administration or the Chief Human Capital Officer.

Authority: Section 7(d) of the Department of Housing and Urban Development Act (42 U.S.C. 3535(d).

Dated: October 20, 2011.
Shaun Donovan,
Secretary.

[FR Doc. 2011-28673 Filed 11-4-11; 8:45 am]

BILLING CODE 4210-67-P